NATIONAL AERONAUTICS AND SPACE ADMINISTRATION

[Notice 00-034]

NASA Advisory Council (NAC), Aero-Space Technology Advisory Committee (ASTAC); Airframe Systems Subcommittee; Meeting.

AGENCY: National Aeronautics and Space Administration.

ACTION: Notice of meeting.

SUMMARY: In accordance with the Federal Advisory Committee Act, Public Law 92-463, as amended, the National Aeronautics and Space Administration announces a forthcoming meeting of the NASA Advisory Council, Aero-Space Technology Advisory Committee, Airframe Systems Subcommittee.

DATES: Thursday, May 4, 2000, 8 a.m. to 5:30 p.m. and Friday, May 5, 2000, 8 a.m. to 12 Noon.

ADDRESSES: National Aeronautics and Space Administration, Langley Research Center, Building 1219, Room 225, Hampton, VA 23681-0001.

FOR FURTHER INFORMATION CONTACT: Dr. Darrel Tenney, National Aeronautics and Space Administration, Langley Research Center, Hampton, VA 23681, 757/864-6033.

SUPPLEMENTARY INFORMATION: The meeting will be open to the public up to the seating capacity of the room. The agenda for the meeting is as follows:

—Discussions on Strategic Directions in New Code R & Impacts to Aerospace Vehicle Systems Technology Program

—Breakthrough Technologies—Scope and Direction

—Transportation System Architecture

It is imperative that the meeting be held on these dates to accommodate the scheduling priorities of the key participants.

Dated: April 10, 2000.
Matthew M. Crouch,
Advisory Committee Management Officer, National Aeronautics and Space Administration.

[FR Doc. 00-9261 Filed 4-14-00; 8:45 am]

BILLING CODE 7510-01-U